DEPARTMENT OF HEALTH AND HUMAN SERVICES

National Institutes of Health

National Cancer Institute; Cancellation of Meeting

Notice is hereby given of the cancellation of the National Cancer Institute Special Emphasis Panel, May 5, 2006, 11 a.m. to May 5, 2006, 5 p.m., National Cancer Institute, 6116 Executive Boulevard, Room 8125, Bethesda, MD which was published in the Federal Register on April 14, 2006, 71 FR 19529.

The meeting FRN is being cancelled and a new FRN is being published.

Dated: April 20, 2006.
Anna Snouffer,
Acting Director, Office of the Federal Advisory Committee Policy.

[FR Doc. 06-4002 Filed 4-27-06; 8:45 am]

BILLING CODE 4140-01-M